ENVIRONMENTAL PROTECTION AGENCY

[FRL-10152-03-R10]

Reissuance of NPDES General Permit for Federal Aquaculture Facilities and Aquaculture Facilities Located in Indian Country in Washington (WAG130000)

AGENCY: Environmental Protection Agency (EPA).

ACTION: Reissuance of NPDES General Permit.

SUMMARY: The Environmental Protection Agency, Region 10, is reissuing the National Pollutant Discharge Elimination System (NPDES) General Permit for Federal Aquaculture Facilities and Aquaculture Facilities Located in Indian Country in Washington (WAG130000).

DATES: The reissuance date of the general permit is January 8, 2024. The general permit will be effective March 1, 2024.

ADDRESSES: Copies of the general permit, 2022 fact sheet, 2023 fact sheet addendum, and response to comments document are available online: https://www.epa.gov/npdes-permits/npdes-general-permit-federal-aquaculture-facilities-and-aquaculture-facilities-located.

FOR FURTHER INFORMATION CONTACT: Requests may be made to Audrey Washington at (206) 553-0523. Requests may also be electronically mailed to: washington.audrey@epa.gov.

SUPPLEMENTARY INFORMATION:

On September 7, 2022, EPA Region 10 proposed to reissue the general permit (87 FR 54688). In response to requests from the regulated community, EPA Region 10 extended the end of the public comment period from November 7 to December 22, 2022 (87 FR 66178). On July 18, 2023, EPA Region 10 initiated a second public comment period focused exclusively on four changes made to the General Permit (88 FR 45901). Eligible facilities include Concentrated Aquatic Animal Production (CAAP) facilities, non-CAAP facilities, aquaculture research facilities, and dam fish passage facilities. Currently, there are 32 facilities covered under the existing administratively continued general permit. Existing aquaculture facilities may request authorization to discharge under the general permit by submitting a Notice of Intent (NOI) no more than ninety (90) days following the effective date of the general permit. New facilities that begin operations after the effective date of the general permit must submit a NOI at least 180 days prior to initiation of operations. Upon receipt, EPA will review the NOI to ensure that all permit requirements are met. If determined appropriate by EPA, a discharger will be granted coverage under the general permit upon the date that EPA provides written notification.

Please see the general permit and fact sheet.

Other Legal Requirements

This action is not a significant regulatory action and was therefore not submitted to the Office of Management and Budget (OMB) for review.

In accordance with National Environmental Policy Act (NEPA), an Environmental Assessment (EA) and associated Finding of No Significant Impact (FONSI) for a proposed facility at Cassimer Bar was available for review and comment along with this general permit.

Compliance with Endangered Species Act, Essential Fish Habitat, Paperwork Reduction Act, and other requirements are discussed in the 2022 fact sheet to the general permit.

Appeal of Permit: Any interested person may appeal the final permit action on or before May 7, 2024 (i.e., 120 days from the issuance date of this permit) in the Federal Court of Appeals in accordance with section 509(b)(1) of the CWA, 33 U.S.C. 1369(b)(1).

Caleb Shaffer,
Acting Director, Water Division, Region 10.

[FR Doc. 2024-00096 Filed 1-5-24; 8:45 am]

BILLING CODE 6560-50-P